DEPARTMENT OF STATE

[Public Notice #3388]

Fine Arts Committee; Notice of Meeting

The Fine Arts Committee of the Department of State will meet on Friday, October 20, 2000 at 10:30 a.m. in the John Quincy Adams State Drawing Room. The meeting will last until approximately 12 p.m. and is open to the public.

The agenda for the committee meeting will include a summary of the work of the Fine Arts Office since its last meeting in April 2000 and the announcement of gifts of furnishings as well as financial contributions from January 1 through September 30, 2000. Public access to the Department of State is strictly controlled. Members of the public wishing to take part in the meeting should telephone the Fine Arts Office by October 13, 2000, telephone (202) 647-1990 to make arrangements to enter the building. The public may take part in the discussion as long as time permits and at the discretion of the chairman.

Dated: September 7, 2000.
Gail F. Serfaty,
Vice Chairman, Fine Arts Committee.

[FR Doc. 00-23635 Filed 9-13-00; 8:45 am]

BILLING CODE 4710-38-M